DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by August 28, 2024 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Food and Nutrition Service

Title: The FNS User Access Request Form Data Collection.

OMB Control Number: 0584-0532.

Summary of Collection: The Federal Information Security Modernization Act of 2014 (Pub. L. 113-283) and Office of Management and Budget (OMB) Circular A-130, Managing Information as a Strategic Resource, established a minimum set of controls to be included in Federal automated information security programs. Establishing minimum controls over the provisioning of access to sensitive systems and data is directed in OMB Circular A-130.

Need and Use of the Information: The FNS User Access Request Form, FNS-674, is designed for this purpose and can be used in situations where (1) access to the FNCS network or an FNCS information system is required; (2) current access is required to be modified; and (3) access is no longer required and must be revoked. FNCS employees, contractors, State Agencies and partners (Food Banks, etc.) have requested access to FNCS systems via the User Access Request form. FNCS has used the information collected to grant access to the FNCS network and information systems. Information that is collected includes: Name,e-Authentication ID (if applicable), telephone number, email address, contract expiration date, temporary employee expiration date, office address, State/locality codes, system name, form type, type of access, action requested, comments and special instructions.

Description of Respondents: State and Local Government, Private Sector Businesses or other for-profits institutions.

Number of Respondents: 7,200.

Frequency of Responses: Reporting: On occasion.

Total Burden Hours: 2,370.

Rachelle Ragland-Greene,
Departmental Information Collection Clearance Officer.

[FR Doc. 2024-16555 Filed 7-26-24; 8:45 am]

BILLING CODE 3410-30-P